DEPARTMENT OF DEFENSE

United States Military Cancer Institute

Sunshine Act Meeting Notice

AGENCY: United States Military Cancer Institute.

Time and Date: 0830 to 1500, November 14, 2002.

Place: Eisenhower Suite, WRAMC 6900 Georgia Ave., NW., Washington, DC 20307.

Status: Open—under “Government in the Sunshine Act” (5 U.S.C. 552b(e)(3)).

Matters to be Considered: USMCI goals and objectives.

8:30 a.m. Meeting—Committee of Scientific Advisors

(1) Welcome

(2) Introduction

(3) Overview of various Oncology Programs

(4) Committee and Director Executive Session

CONTACT PERSON FOR MORE INFORMATION: Mr. William Mahr, Associate Director for Administration—USMCI, (202) 782-0552.

Dated: November 4, 2002.
Patricia L. Toppings,
OSD Federal Register Liaison Officer, Department of Defense.

[FR Doc. 02-28720 Filed 11-6-02; 3:32 pm]

BILLING CODE 5001-08-M